DEPARTMENT OF COMMERCE

National Institute of Standards and Technology

Inventions Available for Licensing

AGENCY: National Institute of Standards and Technology, Commerce.

ACTION: Notice of inventions available for licensing.

SUMMARY: The inventions listed below are owned in whole or in part by the U.S. Government, as represented by the Department of Commerce. The U.S. Government's ownership interest in the inventions are available for licensing in accordance with 35 U.S.C. 207 and 37 CFR Part 404 to achieve expeditious commercialization of results of federally funded research and development.

FOR FURTHER INFORMATION CONTACT: Technical and licensing information on these inventions may be obtained by writing to: National Institute of Standards and Technology, Office of Technology Partnerships, Attn: Mary Clague, Building 222, Room A155, Gaithersburg, MD 20899. Information is also available via telephone: 301-975-4188 , fax 301-869-2751, or e-mail: mary.clague@nist.gov. Any request for information should include the NIST Docket number and title for the invention as indicated below.

SUPPLEMENTARY INFORMATION: NIST may enter into a Cooperative Research and Development Agreement (CRADA) with the licensee to perform further research on the invention for purposes of commercialization. The inventions available for licensing are:

[NIST Docket Number: 04-014]

Title: Ultra-Wideband Moisture Detector for Building Assemblies.

Abstract: This invention is jointly owned by the U.S. Government, as represented by the Department of Commerce, and Intelligent Automation, Inc. The invention consists of an antenna array, ultra-wideband radios, signal processing chips, and software. The resulting device allows a user to scan a wall assembly to determine areas of potential moisture accumulation. The software uses the signals received at the antenna array to generate real-time images of the moisture state of the wall. Additional applications for this invention include location of pipes, wires, and studs in walls.

[NIST Docket Number: 05-013]

Title: Iris Digester-Evaporator Interface.

Abstract: The domestic rights within the United States to this invention are owned by the U.S. Government, as represented by the Department of Commerce. The IRIS Digester-Evaporator interface was invented to overcome problems encountered when an inductively coupled plasma mass spectrometry (ICP-MS) was coupled directly to the continuous flow from reversed phase liquid chromatography. The main problems encountered were: high background signal, first increasing and then decreasing in magnitude during the course of a chromatographic gradient of organic solvent, analyte transport difficulties, and carbon build up on the ICP-MS sampling cones from organic solvents. This device produces partial digestion of the sample using nitric acid, aiding analyte transport and detection. After evaporating the organic solvent and nitric acid, the device allows the sample to be sent to ICP-MS in a highly aqueous effluent, the preferred solvent. Through this process, a continuous flow from reverse phase liquid chromatography systems with gradient elution can be easily handled by existing ICP-MS instruments.

Dated: December 20, 2006.
James E. Hill,
Acting Deputy Director.

[FR Doc. E6-22432 Filed 12-28-06; 8:45 am]

BILLING CODE 3510-13-P